ENVIRONMENTAL PROTECTION AGENCY

[ER-FRL-8598-3]

Environmental Impacts Statements; Notice Of Availability

Responsible Agency: Office of Federal Activities, General Information (202) 564-1399 or http://www.epa.gov/compliance/nepa/.

Weekly receipt of Environmental Impact Statements.

Filed 10/05/2009 through 10/09/2009.

Pursuant to 40 CFR 1506.9.

EIS No. 20090349, Draft EIS, SFW, CA, Hatchery and Stocking Program. Operation of 14 Trout Hatcheries and the Mad River Hatchery for the Anadromous Steelhead, Federal Funding, California Department of Fish and Game, CA, Comment Period Ends: 11/30/2009, Contact: Bart Prose 916-978-6152.

EIS No. 20090350, Final EIS, AFS, WI, Grub Hoe Vegetation and Transportation Management Project, Proposes to Implement Vegetation Management Activities, Eagle River Florence Ranger District, Chequamegon-Nicolet National Forest, Florence County, WI, Wait Period Ends: 11/16/2009, Contact: Christine Brunner 715-479-2827.

EIS No. 20090351, Final EIS, AFS, WY, Thunder Basin National Grassland Prairie Dog Management Strategy, Land and Resource Management Plan Amendment #3, Proposes to Implement a Site-Specific Strategy to Manage Black Trailed Prairie Dog, Douglas Ranger District, Medicine Bow-Routt National Forests and Thunder Basin National Grassland, Campbell, Converse, Niobrara and Weston Counties, WY, Wait Period Ends: 11/16/2009, Contact: Misty A. Hays 307-358-4690.

EIS No. 20090352, Draft EIS, FHW, NC, Elizabeth Brady Road (NC-1879) Extension Project, Widening and Extension of NC-1879 from the Intersection of NC-86 with US-70 Business to North of US-70 Bypass at the Intersection of St. Mary's Road NC-1002, Hillsborough Central Business, Orange County, NC, Comment Period Ends: 11/30/2009, Contact: John F. Sullivan III, P.E. 919-747-7002.

EIS No. 20090353, Final EIS, AFS, WI, Northwest Sands Restoration Project, Restoring the Pine Barren Ecosystem, Implementation, Washburn District Ranger, Chequamegon-Nicolet National Forest, Bayfield County, WI, Wait Period Ends: 11/16/2009, Contact: Jennifer Maziasz 715-373-2667 Ext. 235.

EIS No. 20090354, Final EIS, USN, 00, West Coast Basing of the MV-22, Determining Basing Location(s) and Providing Efficient Training Operations, CA, AZ, Wait Period Ends: 11/16/2009, Contact: Sue Goodfellow 703-695-8240 Ext. 3339.

Dated: October 13, 2009.
Ken Mittelholtz,
Deputy Director, NEPA Compliance Division, Office of Federal Activities.

[FR Doc. E9-24924 Filed 10-15-09; 8:45 am]

BILLING CODE 6560-50-P